INTERNATIONAL TRADE COMMISSION

[Investigation No. 731-TA-1688 (Final)]

Ceramic Tile From India; Termination of Investigation

AGENCY: United States International Trade Commission.

ACTION: Notice.

SUMMARY: On April 23, 2025, the Department of Commerce published notice in the Federal Register of a negative final antidumping duty determination in connection with the subject investigation concerning India. Accordingly, the antidumping duty investigation concerning ceramic tile from India (Investigation No. 731-TA-1688 (Final)) is terminated.

DATES: April 23, 2025.

FOR FURTHER INFORMATION CONTACT: Nitin Joshi (202-708-1669), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

Authority: This investigation is being terminated under authority of title VII of the Tariff Act of 1930 and pursuant to § 207.40(a) of the Commission's Rules of Practice and Procedure (19 CFR 207.40(a)). This notice is published pursuant to § 201.10 of the Commission's rules (19 CFR 201.10).

By order of the Commission.
Issued: April 30, 2025.
Lisa Barton,
Secretary to the Commission.

[FR Doc. 2025-07831 Filed 5-5-25; 8:45 am]

BILLING CODE 7020-02-P